DEPARTMENT OF THE TREASURY

Office of Thrift Supervision

Submission for OMB Review; Comment Request—Thrift Financial Report and Monthly Cost of Funds

AGENCY: Office of Thrift Supervision (OTS), Treasury.

ACTION: Notice and request for comment.

SUMMARY: The information collection requirement described below has been submitted to the Office of Management and Budget (OMB) for review, as required by the Paperwork Reduction Act of 1995.

DATES: Submit written comments on or before October 2, 2003.

ADDRESSES: Send comments, referring to the collection by title of the proposal or by OMB approval number, to OMB and OTS at these addresses: Joseph F. Lackey, Jr., Office of Information and Regulatory Affairs, Office of Management and Budget, Room 10235, New Executive Office Building, Washington, DC 20503, or e-mail to Joseph_F._Lackey_Jr@omb.eop.gov; and Information Collection Comments, Chief Counsel's Office, Office of Thrift Supervision, 1700 G Street, NW., Washington, DC 20552, by fax to (202) 906-6518, or by e-mail to infocollection.comments@ots.treas.gov. Commenters should be aware that there may be unpredictable and lengthy delays in postal deliveries to the Washington, D.C. area and may prefer to make their comments via facsimile, e-mail, or hand delivery. OTS will post comments and the related index on the OTS Internet Site at http://www.ots.treas.gov. In addition, interested persons may inspect comments at the Public Reading Room, 1700 G Street, NW., by appointment. To make an appointment, call (202) 906-5922, send an e-mail to publicinfo@ots.treas.gov, or send a facsimile transmission to (202) 906-7755.

FOR FURTHER INFORMATION CONTACT: To obtain a copy of the submission to OMB, contact Marilyn K. Burton at marilyn.burton@ots.treas.gov, (202) 906-6467, or facsimile number (202) 906-6518, Regulations and Legislation Division, Chief Counsel's Office, Office of Thrift Supervision, 1700 G Street, NW., Washington, DC 20552. You can obtain a copy of the March 2004 Thrift Financial Report form from the OTS Internet Site at http://www.ots.treas.gov.

SUPPLEMENTARY INFORMATION: OTS may not conduct or sponsor an information collection, and respondents are not required to respond to an information collection, unless the information collection displays a currently valid OMB control number. As part of the approval process, we invite comments on the following information collection.

Title of Proposal: Thrift Financial Report (TFR) and Monthly Cost of Funds

OMB Number: 1550-0023.

Form Number: OTS 1313.

Description: OTS collects financial data from OTS-regulated savings associations and their subsidiaries and holding companies in order to assure their safety and soundness as depositories of the personal monies of the general public. OTS monitors the association's financial position and interest-rate risk so that adverse conditions can be identified promptly.

Discussion of Comments and Requested Form Changes: After publishing in the Federal Register on January 23, 2003 (68 FR 3318) notice of its intent to make certain changes to the Thrift Financial Report (TFR) effective March 2004 and reviewing and analyzing all comments, OTS has made the following changes to its information collection request to OMB:

Acceleration of Due Dates: Because the majority of the commenters opposed accelerating the filing due date for the TFR and since OTS does not want to impose additional reporting burden on the industry, OTS will not change the TFR filing due date. OTS will retain the same filing due date that the other banking agencies have for the Call Report, which is 30 days after the end of the quarter. Additionally, the filing due date for Schedules HC (Holding Company) and CMR (Consolidated Maturity/Rate) will remain at 45 days after the close of the quarter.

Average Balance Sheet Data: OTS will collect the average balance sheet data proposed, but at the request of several commenters, OTS will allow all institutions regardless of their asset size to use month-end data in their calculations, rather than requiring the use of daily or weekly balances. The averages will be included in Schedule SI and will be publicly available.

Transactions with Affiliates: Due to public response, OTS will combine its proposed items into two line items: (1) Outstanding balances of covered transactions with affiliates that are subject to quantitative limits (Transactions under section 23A of the Federal Reserve Act) and (2) Activity during the quarter of other covered transactions with affiliates, not subject to quantitative limits (Transactions under section 23B of the Federal Reserve Act). This information will be confidential and will not be released to the public. These two data items will be included on Schedule SI and will be due 30 days after the close of the quarter.

Holding Company Data: OTS will expand the holding company data collected in Schedule HC as proposed. Clarifications will be made to the TFR instructions to address comments regarding the scope of some of the supplemental questions. For instance, OTS has narrowed which subsidiaries must be included to those determined to be significant based on consolidated assets, consolidated gross revenues, or the volume of affiliate transactions. Additionally, effective with 2004 reporting, OTS will revise Form H-b(11) to reduce duplicative reporting requirements.

Federal Home Loan Bank Dividends: As proposed, OTS will add a line in Schedule SO (Statement of Operations) for Federal Home Loan Bank dividend income. As requested by commenters, OTS will include FHLB dividends in net interest income, conforming to the presentation in the commercial bank Call Report. In Schedule SO (Statement of Operations), OTS will add a new section following Interest Income for Dividend Income on Equity Investments Not Subject to FASB Statement No. 115, which will include Federal Home Loan Bank dividend income. This new section will be included in net interest income. OTS will also revise Schedule SC (Statement of Condition) to include Federal Home Loan Bank stock under the section for equity investments not subject to FASB Statement No. 115.

Refinancing Loans: OTS will change the definition of CF360, Refinancing Loans, to include any mortgage loan that is not a purchase money mortgage.

Schedule CSS (Subsidiary Schedule): In response to comments, OTS will leave the collection frequency of Schedule CSS as annual and, additionally, will require reporting only of those subsidiaries that meet any one of the following criteria: (1) The gross revenue of the consolidated subsidiary is 5% or more of the gross revenue of the consolidated thrift; or (2) the total assets of the consolidated subsidiary are 5% or more of the consolidated thrift assets; or (3) the consolidated subsidiary is regulated by a state insurance department, the Securities and Exchange Commission, or the Commodity Futures Trading Commission; or (4) the Regional Director deems there is a supervisory reason for requiring the reporting of the subsidiary. Institutions may continue to report subsidiaries that are not required to be reported if they choose.

All Other Revisions: OTS will adopt as proposed the remaining changes to the 2004 TFR published in the Federal Register on January 23, 2003 (68 FR 3318).

Type of Review: Revision of a previously approved collection.

Affected Public: Savings Associations.

Estimated Number of Respondents: 925.

Estimated Frequency of Response: Variable depending on the schedule—Monthly, Quarterly, or Annually.

Estimated Burden Hours per Response: 35.42 hours average for quarterly schedules, 2.5 hours average for schedules required annually, and 0.5 hours for the monthly schedule, plus recordkeeping of an average of one hour per quarter.

Estimated Total Burden: 142,608 hours. Because some of these proposed changes will not affect all savings associations that file the TFR, the burden hours reflected above may vary from institution to institution.

Clearance Officer: Marilyn K. Burton, (202) 906-6467, Office of Thrift Supervision, 1700 G Street, NW., Washington, DC 20552.

OMB Reviewer: Joseph F. Lackey, Jr., (202) 395-7316, Office of Management and Budget, Room 10235, New Executive Office Building, Washington, DC 20503.

Dated: August 26, 2003.
James E. Gilleran,
Director, Office of Thrift Supervision.

[FR Doc. 03-22246 Filed 8-29-03; 8:45 am]

BILLING CODE 6720-01-P